DEPARTMENT OF HEALTH AND HUMAN SERVICES

Meeting of the Chronic Fatigue Syndrome Advisory Committee; Amendment

AGENCY: Office of the Assistant Secretary for Health, Office of the Secretary, Department of Health and Human Services.

ACTION: Notice; amendment.

SUMMARY: A notice was published in the Federal Register on November 27, 2017, announcing an in-person meeting of the Chronic Fatigue Syndrome Advisory Committee (CFSAC) on Wednesday, December 13, 2017, from 9:00 a.m. until 3:30 p.m. and Thursday, December 14, 2017, from 9:00 a.m. until 5:00 p.m. The meeting will be held at the U.S. Department of Health and Human Services, Hubert H. Humphrey Building, Room 800, 200 Independence Avenue SW, Washington, DC 20201. The notice is being amended to provide security procedures to enter the Hubert H. Humphrey Building. Individuals interested in attending the meeting in person need to show a state or federal government issued I.D. with a photograph. Individuals can also email the CFSAC inbox (cfsac@hhs.gov) in order to have their names added to a list of attendees. However, it is still necessary for individuals to present a photo I.D. to gain entrance to Hubert H. Humphrey Building. All participants will be escorted to the meeting room. Space is limited.

FOR FURTHER INFORMATION CONTACT: CDR Gustavo Ceinos, 202-690-7650; Email address: cfsac@hhs.gov.

Dated: December 6, 2017.
Gustavo Ceinos,
CDR, USPHS, Designated Federal Officer, Chronic Fatigue Syndrome Advisory Committee.

[FR Doc. 2017-26739 Filed 12-11-17; 8:45 am]

BILLING CODE 4150-42-P